DEPARTMENT OF STATE

[PUBLIC NOTICE 6218]

Culturally Significant Objects Imported for Exhibition Determinations: “Dali: Painting and Film”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236 of October 19, 1999, as amended, and Delegation of Authority No. 257 of April 15, 2003 [68 FR 19875], I hereby determine that three objects to be added to a Salvador Dali exhibition (now entitled “Dali: Painting and Film”), imported from abroad for temporary exhibition within the United States, are of cultural significance. These objects are imported pursuant to loan agreements with the foreign owners or custodians. I also determine that the exhibition or display of the exhibit objects at the Museum of Modern Art in The Joan and Preston Robert Tisch Gallery, New York, NY, from on or about June 29, 2008, until on or about September 15, 2008, and at possible additional exhibitions or venues yet to be determined, is in the national interest.

These three objects will be added to those covered by the Dali & Film” exhibition Determinations published at 72 FR 49,345-6 (Aug. 28, 2007).

Public Notice of these Determinations is ordered to be published in the Federal Register.

FOR FURTHER INFORMATION CONTACT: For further information, including a list of the exhibit objects, contact Julie Simpson, Attorney-Adviser, Office of the Legal Adviser, U.S. Department of State (telephone: (202-453-8050)). The address is U.S. Department of State, SA-44, 301 4th Street, SW., Room 700, Washington, DC 20547-0001.

Dated: May 2, 2008.
C. Miller Crouch,
Principal Deputy Assistant Secretary for Educational and Cultural Affairs, Department of State.

[FR Doc. E8-10437 Filed 5-8-08; 8:45 am]

BILLING CODE 4710-05-P